DEPARTMENT OF HEALTH AND HUMAN SERVICES

Centers for Disease Control and Prevention

[Program Announcement 01173]

Notice of Availability of Funds; Expansion of Mother to Child HIV/AIDS Prevention Activities in the Republic of Kenya

A. Purpose

The Centers for Disease Control and Prevention (CDC) announces the availability of fiscal year (FY)2001 funds for a cooperative agreement program for the expansion of HIV/AIDS Prevention Activities in the Republic of Kenya.

The purpose of the program is to promote the delivery of integrated and comprehensive services to prevent mother to child transmission (PMCT) of HIV infection, including counseling and testing of antenatal patients, the use of effective anti-retroviral drugs, appropriate feeding recommendations, and other maternal health services.

B. Eligible Applicants

Applications may be submitted by public and private nonprofit organizations and by governments and their agencies and international organizations with a minimum of 2 years experience in providing integrated and comprehensive services to women at high risk of HIV infection or whom are HIV infected for the purpose of preventing mother to child transmission of HIV infection.

Note: Title 2 of the United States Code, Chapter 26, Section 1611 states that an organization described in section 501(c)(4) of the Internal Revenue Code 1986 that engages in lobbying activities is not eligible to receive Federal funds constituting an award, grant, cooperative agreement, contract, loan, or any other form.

C. Availability of Funds

Approximately $500,000 is available in FY 2001 to fund one award. It is expected that the award will begin on or about September 30, 2001, and will be made for a 12-month budget period within a project period of up to three (3)years. Funding estimates may change.

Continuation awards within an approved project period will be made on the basis of satisfactory progress as evidenced by required reports and the availability of funds.

Use of Funds

Funds may be utilized only for the purposes and for the activities described and approved in the final award. Antiretroviral Drugs

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Applicants may contract with other organizations under this cooperative agreements, however, applicants must perform a substantial portion of the activities (including program management and operations and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange: No funds appropriated under this Act shall be used to carry out any program of distributing sterile needles or syringes for the hypodermic injection of any illegal drug.

D. Program Requirements

In conducting activities to achieve the purpose of this program, the recipient will be responsible for the activities under “Recipient Activities”, and CDC will be responsible for the activities listed under “CDC Activities”.

1. Recipient Activities

a. Identify appropriate health institutions and develop mechanisms for funding service activities.

(1) Work with the National AIDS/STD Control Program (NASCOP) and the Centers for Disease Control and Prevention—Kenya (CDC) to develop a plan for expansion of PMCT services so that model services are provided in at least one district in each province. This will include appropriate assessments of capacity, feasibility, and acceptability of PMCT in potential target districts;

(2) Assist Ministry of Health (MOH) staff in facilities and District or Provincial Health Offices in these selected districts in wishing to provide PMCT as part of their AIDS activities in preparing plans for training health workers, organizing manpower and services, and establishing plans for monitoring and evaluation of comprehensive PMCT services;

(3) Solicit proposals from local non governmental organizations (NGO) health facilities who wish to provide PMCT services as part of their AIDS prevention and/or care efforts, including church and faith-based health facilities, and other private facilities and provide funding through contracts to these organizations;

(4) Provide on-going technical assistance to such groups;

(5) Minimally upgrade facilities so that confidential counseling can take place within existing antenatal clinics and maternity units

b. Train Health Workers in PMCT

(1) Develop a training plan for selecting and training health workers at selected facilities in the specific skills and competencies required to deliver comprehensive PMCT services.

(2) Conduct or provide a contract to another organization which will conduct training in PMCT consistent with the Kenya national guidelines.

c. Provide Nevirapine, HIV, RPR test kits and other supplies needed to conduct on-site, confirmed, rapid HIV testing for purposes of providing PMCT.

(1) Procure HIV test kits and other supplies as needed for PMCT. Selection of test kits will be made on the basis of CDC recommendations and will be test kits approved for use in Kenya.

(2) Develop a system for the distribution and re-stocking of HIV test kits and consumables.

(3) Develop a system for additional testing of samples with discordant results, and for quality assurance testing.

d. Provide on-going support, monitoring, supervision, and evaluation of these sites

(1) Ensure that all PMCT sites are operating in accordance with the Kenya National PMCT guidelines and with all applicable local and international standards.

(2) Ensure that all funds disbursed for PMCT activities are properly used and accounted for, and train staff at PMCT sites receiving funds in proper accounting procedures according to federal regulations;

(3) Develop systems for routine monitoring and supervision of PMCT services, including a system for computerized record keeping in all districts, and provide central level analysis and reporting.

e. Public Information Campaign Regarding PMCT

(1) Develop and implement an marketing campaign designed to increase public awareness of the benefits of PMCT and the specific services offered at PMCT sites;

(2) Develop and implement a public awareness campaign and design services to encourage expectant parents to seek couple counseling regarding HIV status, including primary prevention for negative couples, specific counseling for discordant couples with ongoing counseling support and transmission prevention education, and appropriate information and referral for care for HIV infected couples;

(3) Ensure that all sites are appropriately advertised so that pregnant women and their families in the community know where they may receive PMCT services.

2. CDC Activities

a. CDC will collaborate with the recipient on designing and implementing the activities listed above, including but not limited to providing technical assistance to develop and implement program activities, quality assurances, data management, statistical analysis and presentations of program methods and findings.

b. Monitor project and budget performance and

c. Approve the selection of key personnel to be involved in the activities preformed under this cooperative agreement.

d. Rapid HIV Test kits may be provided in limited amounts for the purpose of this activity.

E. Content

Use the information in the Program Requirements, Other Requirements, and Evaluation Criteria sections to develop the application content. Your application will be evaluated on the criteria listed, so it is important to follow them in laying out your program plan. The narrative should be no more than 25 double-spaced pages, printed on one side, with one inch margins, and 12 point font. Pages should be numbered and indexed. The narrative should consist of, at a minimum, a Plan, Objectives, Methods, Evaluation and Budget.

F. Submission and Deadline

Submit the original and two copies of PHS 5161-1 (OMB Number 0920-0428) Forms are available in the application kit and at the following Internet address: www.cdc.gov/od/pgo/forminfo.htm

On or before August 17, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated postmark or obtain a legibly dated receipt from a commercial carrier. Private metered postmarks shall not be acceptable as proof of timely mailing.)

Late: Applications which do not meet the criteria in 1. or 2. above will be returned to the applicant.

G. Evaluation Criteria

Each application will be evaluated individually against the following criteria by an independent review group appointed by CDC.

1. Understanding of the Problem (15 percent)

The extent to which the applicant's proposal demonstrates a clear and concise understanding of the AIDS epidemic in Kenya and the role of PMCT as a prevention intervention and as an entry point to care for the family.

2. Technical and Programmatic Approach (30 percent)

The extent to which the applicant's proposal demonstrates an understanding of how to develop, promote, implement, monitor, and evaluate PMCT services offered in a variety of health facilities. This includes experience in providing counseling and testing of antenatal patients, the use of effective antiretroviral drugs, making appropriate feeding recommendations and providing other maternal health services.

3. Ability to Carry Out the Project (20 percent)

The extent to which the applicant documents demonstrated capability to achieve the purpose of the project, including grants management of U.S. donor funds. Experience should include working in developing African countries, familiarity with the resources and customs of the Republic of Kenya.

4. Personnel (20 percent)

The extent to which professional personnel involved in this project are qualified, including evidence of experience in working with HIV/AIDS in mothers and children in clinical settings, HIV counseling and testing, working with families and communities, with government and non-government health facilities, and specific knowledge or experience with PMCT.

5. Plans for Administration and Management of the Project (15 percent)

Adequacy of plans for administering the project.

6. Budget (Not scored, but evaluated)

The extent to which the itemized budget for conducting the project is reasonable and well justified. The applicant should include an analysis of the estimated cost per client served in the budget.

7. Protection of Human Subjects (not scored)

The extent to which the application adequately addresses the requirements of 45 CFR 46 for the protection of human subjects. (Not scored; however, an application can be disapproved if the research risks is so inadequate and protection against risks is so inadequate as to make the entire application unacceptable.)

H. Other Requirements

Technical Reporting Requirements

Provide CDC with original plus two copies of

1. Semiannual progress reports;

2. Financial status report, no more than 90 days after the end of the budget period;

3. Final financial and performance reports, no more than 90 days after the end of the project period and;

4. Obtain annual program specific audit by a U.S.-based audit firm with international branches and current licensure/authority in-country, and in accordance with the International Accounting Standards or equivalent standard(s) approved in writing by CDC.

A fiscal Recipient Capability Assessment, pre or post award, may be required with the potential grantee, in order to review their business management and fiscal capabilities in handling of U.S. Federal funds.

Send all reports to the Grants Management Specialist identified in the “Where to Obtain Additional Information” section of this announcement.

The following additional requirements are applicable to this program. For a complete description of each, see Attachment I of the announcement.

AR-1 Human Subjects Requirements

AR-4 HIV/AIDS Confidentiality Provisions

AR-6 Patient Care

AR-10 Smoke-Free Workplace Requirements

AR-12 Lobbying Restrictions

AR-14 Accounting System Requirements

I. Authority and Catalog of Federal Domestic Assistance Number

This program is authorized under section 307 of the Public Health Service Act, (42 U.S.C. 2421), as amended. The Catalog of Federal Domestic Assistance number is 93.941.

J. Where To Obtain Additional Information

This and other CDC announcements can be found on the CDC home page Internet address http://www.cdc.gov Click on “Funding” then “Grants and Cooperative Agreements.”

To receive additional written information and to request an application kit, call 1-888-GRANTS4 (1-888-472-6874). You will be asked to leave your name and address and will be instructed to identify the Program Announcement number of interest.

If you have questions after reviewing the contents of all the documents, business management technical assistance may be obtained from: Dorimar Rosado, Grants Management Specialist Grants Management Branch, Procurement and Grants Office Centers for Disease Control and Prevention 2920 Brandywine Road, Room 3000 MS-15 Atlanta, GA 30341-4146 Telephone number: (770) 488-2782 email address: dpr7@cdc.gov.

For program technical assistance, contact: Lawrence H. Marum, M.D., FAAP, MPH CDC LIFE Initiative, PO Box 30137, Nairobi Office: National AIDS/STD Control Programme (NASCOP) Phone: +254-72-721-781 or +254-2-729-549 Fax: +254-2-714-745 Email: Lmarum@nairobi.mimcom.net P.O. Box 30137 Nairobi, Kenya US Mail: Unit 64112 APO, AE 09831-4112

Dated: July 12, 2001.
John L. Williams,
Director, Procurement and Grants Office, Centers for Disease Control and Prevention.

[FR Doc. 01-17911 Filed 7-17-01; 8:45 am]

BILLING CODE 4163-18-P